EXPORT-IMPORT BANK OF THE U.S.

[Public Notice 2010-0035]

Agency Information Collection Activities: Final Collection; Comment Request

AGENCY: Export-Import Bank of the U.S.

ACTION: Submission for OMB review and comments request.

Form Title: Application for Short-Term Express Export Credit Insurance Policy.

SUMMARY: The Export-Import Bank of the United States (Ex-Im Bank), as a part of its continuing effort to reduce paperwork and respondent burden, invites the general public and other Federal Agencies to comment on the proposed information collection, as required by the Paperwork Reduction Act of 1995.

The Application for Short-Term Express Export Credit Insurance Policy will be used to determine the eligibility of the applicant and the transaction for Export-Import Bank assistance under its insurance program. Export-Import Bank customers will be able to submit this form on paper or electronically.

This is a new application form for use by small U.S. businesses with limited export experience. Companies that are eligible to use the Express policy will need to answer approximately 20 questions and sign an acknowledgement of the certifications that appear on the reverse of the application form. This program does not provide discretionary credit authority to the U.S. exporter, and therefore the financial and credit information needs are minimized. This new form incorporates the recently updated standard Certification and Notices section as well as two questions about the amount of U.S. employment to be supported by this policy.

DATES: Comments should be received on or before November 8, 2010 to be assured of consideration.

ADDRESSES: Comments maybe submitted electronically on http://www.regulations.gov or by mail to Michele Kuester, Export-Import Bank of the United States, 811 Vermont Ave., NW., Washington, DC 20571.

SUPPLEMENTARY INFORMATION: Titles and Form Number: EIB 10-02 Application for Short-Term Express Export Credit Insurance Policy.

OMB Number: 3048-xxxx.

Type of Review: New.

Need and Use: The Application for Short-Term Express Export Credit Insurance Policy will be used to determine the eligibility of the applicant and the transaction for Export-Import Bank assistance under its insurance program.

Annual Number of Respondents: 500.

Estimated Time per Respondent: 75 hours.

Government Annual Burden Hours: 50 hours.

Frequency of Reporting or Use: Once.

Sharon A. Whitt,
Agency Clearance Officer.

[FR Doc. 2010-22412 Filed 9-8-10; 8:45 am]

BILLING CODE 6690-01-P